DEPARTMENT OF DEFENSE

Department of the Air Force

US Air Force Scientific Advisory Board, Notice of Meeting

AGENCY: Department of the Air Force, U.S. Air Force Scientific Advisory Board.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board meeting will take place on Tuesday, January 13th, 2009, at the SAF/AQ Conference and Innovation Center, 1560 Wilson Blvd, Rosslyn, VA 22209. The meeting will be from 8 a.m.-4 p.m. The purpose of the meeting is to hold the United States Air Force Scientific Advisory Board quarterly meeting to discuss the FY09 Scientific Advisory Board study topics tasked by the Secretary of the Air Force and the results of the Air Force Research Laboratory review.

Pursuant to 5 U.S.C. 552b, as amended, and 41 CFR 102-3.155, the Administrative Assistant of the Air Force, in consultation with the Office of the Air Force General Counsel, has determined in writing that the public interest requires that all sessions of the United States Air Force Scientific Advisory Board meeting be closed to the public because they will be concerned with classified information and matters covered by sections 5 U.S.C. 552b(c)(1) and (4).

Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt Col David J. Lucia, 703-697-8288, United States Air Force Scientific Advisory Board, 1080 Air Force Pentagon, Room 4C759, Washington, DC 20330-1080, david.lucia@pentagon.af.mil.

Bao-Anh Trinh,
Air Force Federal Register Liaison Officer.

[FR Doc. E8-29433 Filed 12-11-08; 8:45 am]

BILLING CODE 5001-05-P